LEGAL SERVICES CORPORATION

Request for Letters of Intent To Apply for 2015 Technology Initiative Grant Funding

AGENCY: Legal Services Corporation.

ACTION: Notice.

SUMMARY: The Legal Services Corporation (LSC) issues this Notice describing the conditions under which Letters of Intent To Apply for Technology Initiative Grants (TIG) will be received. LSC's TIG program was established in 2000. Since that time, LSC has made 647 grants totaling more than $53 million. This grant program provides an important tool to help achieve LSC's goal of increasing the quantity and quality of legal services available to eligible persons. Projects funded under the TIG program develop, test and replicate innovative technologies that can enable grant recipients and state justice communities to improve low-income persons' access to high quality legal assistance through an integrated and well managed technology system. When submitting Letters of Intent, applicants should consider the growth and continued development of technology and the resulting effects on the practice of law, management of legal aid organizations and legal aid service delivery.

DATES: Letters of Intent must be submitted by 11:59 p.m. EST on February 29, 2016.

ADDRESSES: Letters of Intent must be submitted electronically at http://lscgrants.lsc.gov.

FOR FURTHER INFORMATION CONTACT: Jane Ribadeneyra, Program Analyst, Office of Program Performance, Legal Services Corporation, 3333 K Street NW., Washington, DC 20007; (202) 295-1554 (phone); ribadeneyraj@lsc.gov.

SUPPLEMENTARY INFORMATION:

General Information

The Legal Services Corporation awards Technology Initiative Grant funds through an open, competitive, and impartial selection process. All prospective applicants for 2016 TIG funds must submit a Letter of Intent to Apply (LOI) prior to submitting a formal application. The format and contents of the LOI should conform to the requirements specified below in Section IV.

Through the LOI process, LSC identifies those projects that have a reasonable chance of success in the competitive grant process based on LSC's analysis of the project description and other information provided in the LOI. LSC will solicit full proposals for those projects.

LSC Requirements

Technology Initiative Grant funds are subject to all LSC requirements, including the requirements of the Legal Services Corporation Act (LSC Act), any applicable appropriations acts and any other applicable laws, rules, regulations, policies, guidelines, instructions, and other directives of the Legal Services Corporation, including, but not limited to, the LSC Audit Guide for Recipients and Auditors, the Accounting Guide for LSC Recipients, the CSR Handbook, the 1981 LSC Property Manual (as amended) and the Property Acquisition and Management Manual, with any amendments to the foregoing adopted before or during the period of the grant. Before submitting a Letter of Intent to Apply, applicants should be familiar with LSC's transfer and subgrant requirements at 45 CFR parts 1610 and 1627 (see http://www.lsc.gov/about/laws-regulations/lsc-regulations-cfr-45-part-1600-et-seq), particularly as they pertain to payments of LSC funds to other entities for programmatic activities.

For additional information and resources regarding TIG compliance, including transfers, subgrants, third-party contracting, conflicts of interest, grant modification procedures, and special TIG grant assurances, see LSC's TIG compliance Web page.

Eligible Applicants

TIG awards are available only to current LSC Basic Field Grant recipients that are not subject to any short funding (i.e., less than one year) on Basic Field Grants.

LSC will not award a TIG to any applicant that is not in good standing on any existing TIG projects. Applicants must be up to date, according to the milestone schedule on all existing TIG projects prior to submitting a LOI or have requested and received an adjustment to the original milestone schedule. LSC will not award a TIG to any applicant that has not made satisfactory progress on prior TIGs. LSC recipients that have had a previous TIG terminated for failure to provide timely reports and submissions are not eligible to receive a TIG for three years after their earlier grant was terminated. This policy does not apply to applicants that worked with LSC to end a TIG early after an unsuccessful project implementation resulting from technology limitations, a failed proof of concept, or other reasons outside of the applicant's control.

Funding Availability

LSC has received an appropriation of $4 million for fiscal year 2016 to fund TIG projects. In 2015, 36 TIG projects received funding with a median funding amount of $86,200. (See TIG's past awards Web page for more information on past grants.) LSC recommends a minimum amount for TIG funding requests of $40,000, but lower requests will be considered. There is no maximum amount for TIG funding requests that are within the total appropriation for TIG.

Collaborations

The TIG program encourages applicants to reach out to and include in TIG projects others interested in access to justice—the courts, bar associations, pro bono projects, libraries, and social service agencies. Partnerships can enhance the reach, effectiveness and sustainability of many projects.

Grant Categories

LSC will accept projects in two application categories:

(1) Innovations and Improvements

(2) Replication and Adaptation

Grant Category 1: Innovations and Improvements

The Innovations and Improvements Category is designated for projects that: (1) Implement new or innovative approaches for using technology in legal services or (2) enhance the effectiveness and efficiency of existing technologies so that they may be better used to increase the quality and quantity of services to clients.

Although there is no funding limit or matching requirement for applications in this category, additional weight is given to projects with strong support from partners. Proposals for initiatives with broad applicability and/or that would have impact throughout the legal services community are strongly encouraged.

Grant Category 2: Replication and Adaptation

The Replication and Adaptation category is for proposals that seek to replicate, adapt, or provide added value to the work of prior technology projects. This includes, but is not limited to, the implementation and improvement of tested methodologies and technologies from previous TIG projects. Applicants may also replicate technology projects funded outside of the TIG program, including sectors outside the legal aid community, such as other social services organizations, the broader non-profit community, and the private sector.

Project proposals in the Replication and Adaptation category may include, but are not limited to:

A: Replication of Previous TIG Projects

LSC requires that any original software developed with TIG funding be available to other legal services programs at little or no cost. Applicants should look to previous successful TIG projects to determine how they could be replicated at a reduced cost from the original project, and/or how they could be expanded and/or enhanced. Projects where original software or content has already been created lend themselves to replication, and LSC encourages programs to look to these projects to see how they could benefit the delivery systems in their state.

B: Automated Form Replication

LawHelp Interactive (LHI ¹) is deployed across the country with thousands of active HotDocs templates and A2J Author modules hosted on the LawHelp Interactive National HotDocs Server at https://lawhelpinteractive.org. Despite differences from state to state in the content and format, many of these forms can be edited for use in other jurisdictions with less effort, hence a lower cost, than developing the document from scratch.

¹ LHI is an automated document server powered by HotDocs Server and made available to any LSC funded program at no charge. See https://lawhelpinteractive.org.

Even if a form differs from one state to another, the information needed to populate a form will, for the most part, be similar. (What are the names of the plaintiff, the defendant, the children, etc.?). This means the interviews are more easily replicated than templates. All of these templates and interviews are available to be modified as needed. Applicants should identify which forms and templates are to be adapted, and then estimate the cost to do this and compare that to the cost of developing them from scratch.

LHI has the capacity to support Spanish, Vietnamese, Mandarin and Korean language interviews. In addition, LHI has been integrated with other systems to allow the flow of information between LHI and court e-filing systems, and legal aid case management systems. The “Connect” feature enables pro bono programs from across a state to use LHI interviews and forms to assign pre-screened pro bono cases and their documents to panel attorneys. For additional information, including examples, best practices, models and training materials, see the LawHelp Interactive Resource Center at http://www.probono.net/dasupport (you may need to request a free membership to access this Web site).

C. Replication of Technology Projects in Other Sectors

In addition to replicating other TIG funded technology projects, LSC encourages replication of proven technologies from non-LSC funded legal aid organizations as well as sectors outside the legal aid community. Ideas for replication may be found through resources and organizations such as LSNTAP, the ABA, international legal aid providers such as the Legal Services Society of British Columbia and HiiL's Innovating Justice project (http://www.innovatingjustice.com), Idealware (see the article on Unleashing Innovation), NTEN, and TechSoup.

Areas of Interest

LSC welcomes applications for a wide variety of projects. For 2016, LSC has three areas of particular interest in which programs are encouraged to submit proposals for innovative technology approaches. The designation of these areas does not in any way limit the scope of proposals in which LSC is interested. The 2016 areas of particular interest are:

A. Achieving “100 Percent Access.” LSC's 2013 Technology Summit Report, available at http://www.lsc.gov/media-center/publications/report-summit-use-technology-expand-access-justice, proposed an integrated service-delivery system that would “move the United States toward providing some form of effective assistance to 100 percent of persons otherwise unable to afford an attorney for dealing with essential civil legal needs.” Recently, the Conference of Chief Justices and the Conference of State Court Administrators adopted a resolution advocating a similar access goal:

NOW, THEREFORE, BE IT RESOLVED that the Conference of Chief Justices and the Conference of State Court Administrators support the aspirational goal of 100 percent access to effective assistance for essential civil legal needs and urge their members to provide leadership in achieving that goal and to work with their Access to Justice Commission or other such entities to develop a strategic plan with realistic and measurable outcomes;

and BE IT FURTHER RESOLVED that the Conferences urge the National Center for State Courts and other national organizations to develop tools and provide assistance to states in achieving the goal of 100 percent access through a continuum of meaningful and appropriate services.

With this area of interest, LSC seeks proposals that use technology to further the goal of 100 percent access to effective assistance for essential civil legal needs, particularly through projects that advance related objectives developed by the Access to Justice Commission in the applicant's state.

LSC's Technology Summit Report provides examples of strategies for achieving 100 percent access, but proposals should not be limited to approaches discussed in the report. Applicants should work with their local commissions (where they exist) and/or other stakeholders to determine the best ways to use technology to move toward achieving this goal.

B. Projects to Move Organizations above the LSC Technology Baselines. “LSC Baselines: Technologies That Should Be in Place in a Legal Aid Office Today,” available at http://www.lsc.gov/sites/default/files/TIG/pdfs/LSC-Technology-Baselines-2015.PDF, provides a detailed overview of the technologies that enable modern legal aid offices to operate efficiently and effectively. While LSC's policy is that TIGs cannot be used to bring grantees up to the baselines in an area, we encourage applicants as they implement a baseline capacity to think about how they can do more than just the minimum. This area of interest focuses on initiatives that advance organizations beyond the 2015 Baselines by developing innovative, creative technology solutions that not only address one or more Baseline capacities, but also exceed them. Grantees applying under this area of interest should address how their project could establish a new technology best practice that could be incorporated into future versions of the Baselines.

C. Innovations in Legal Information Design and Delivery. Legal tools and content should be developed with the end user in mind, but too often the result reflects what the developer determines the end user will need, rather than what the user understands and finds helpful. Technology provides an opportunity to design and deliver legal information optimized for the end user, and there are good examples of how user-centric design can improve legal innovation (see www.legaltechdesign.com and www.nulawlab.org). Projects in this area of interest could incorporate new approaches to visual law, online learning, and user interaction in the design and delivery of content. In one example from the 2015 TIG cycle, a grantee received funding to develop a courtroom experience app that delivers just-in-time support directly to litigants' smartphones as they navigate various stages of the court process, increasing effective self-representation. Projects could also focus on low/no-literacy and Limited English Proficiency (LEP) communities or others who are under-served by traditional methods.

Specific Letter of Intent To Apply Requirements

One Project per Letter of Intent

Applicants may submit multiple LOIs, but a separate LOI should be submitted for each project for which funding is sought.

Letter Requirements and Format

Letters of Intent must be submitted using the online system at http://lscgrants.lsc.gov. Additional instructions and information can be found on the TIG Web site, http://www.lsc.gov/grants-grantee-resources/our-grant-programs/tig. This system will walk you through the process of creating a simple two-page LOI. The LOI should concisely provide the following information about the proposed project:

1. Category—Select the appropriate category from the drop down list.

2. Description of Project (maximum 2500 characters)—Briefly describe the basic elements of the project, including the specific technology(ies) the project will develop or implement; how they will be developed, how they will operate, the function they will serve within the legal services delivery system, their expected impact, and other similar factors. (Only the impact should be highlighted here; more details about the system's benefits should be provided below.)

3. Major Benefits (maximum 2500 characters)—Describe the specific ways in which the project will increase or improve services to clients and/or enhance the effectiveness and efficiency of program operations. To the extent feasible, discuss both the qualitative and quantitative aspects of these benefits.

4. Estimated Costs (maximum 1500 characters)—Start by stating the amount of funding you are seeking from the TIG program, followed by the estimated total project cost, summarizing the anticipated costs of the major components of the project. List anticipated contributions, both in-kind and monetary, from all partners involved in the project.

5. Major Partners (maximum 1500 characters)—Identify organizations that are expected to be important partners. Specify the role(s) each partner will play.

6. Innovation/Replication (maximum 1500 characters)—Identify how and why the proposed project is new and innovative and/or is a replication or adaptation of a previous technology project. Identify how and why the proposed project can significantly benefit and/or be replicated by other legal services providers and/or the legal services community at large.

Letter of Intent To Apply Deadline

Letters of Intent must be completed and submitted into the online system at http://lscgrants.lsc.gov no later than 11:59 p.m. EST, Monday, February 29, 2016. The online system may experience technical difficulties due to heavy traffic on the day of the deadline. Applicants are strongly encouraged to complete LOI submissions as early as possible.

LSC will not accept applications submitted after the application deadline unless a waiver of the deadline has been approved in advance (see Waiver Authority). Therefore, allow sufficient time for online submission.

LSC will provide confirmation via email upon the completed electronic submission of each Letter of Intent. Keep this email as verification that the program's LOI was submitted. If no confirmation email is received, inquire about the status of your LOI at Techgrants@lsc.gov.

Selection Process

LSC will initially review all Letters of Intent to Apply to determine whether they conform to the required format and clearly present all of the required elements listed and described above. Failure to meet these requirements may result in rejection of the Letter of Intent.

LSC will review each Letter of Intent to identify those projects likely to improve access to justice, or to improve the efficiency, effectiveness, and quality of legal services provided by grantees. The Letters of Intent will also be reviewed to determine the extent to which the project proposed is clearly described and well thought out, offers major benefits to our targeted client community, is cost-effective, involves all of the parties needed to make it successful and sustainable, and is either innovative or a cost-effective replication of prior successful projects. LSC will invite those applicants that satisfy these criteria to submit full applications.

Next Steps for Successful Applicants

LSC will notify successful applicants by April 11, 2016. Successful applicants will have until 11:59 p.m. EDT, Friday, May 20, 2016 to complete and submit full applications in the online application system.

Waiver Authority

LSC, upon its own initiative or when requested, may waive provisions in this Notice at its sole discretion under extraordinary circumstances and when it is in the best interest of the eligible client community. Waivers may be granted only for requirements that are discretionary and not mandated by statute or regulation. Any request for a waiver must set forth the extraordinary circumstances for the request and be included in the application. LSC will not consider a request to waive the deadline for a Letter of Intent to Apply unless the waiver request is received by LSC prior to the deadline.

Contact Information

For information on the status of a current TIG project, contact Eric Mathison, Program Analyst, Telephone: 202-295-1535; Email: emathison@lsc.gov.

For questions about projects in CT, IL, IN, ME, MA, MI, NH, NJ, NY, OH, PA, RI, WI, WV, VT, contact David Bonebrake, Program Counsel, Telephone: 202.295.1547; Email: dbonebrake@lsc.gov.

For questions about projects in AK, AZ, CA, CO, GU, HI, ID, IA, KS, MP, MN, MT, NE., NV, NH, NM, ND, OK, OR, SD, TX, UT, WA, WY, contact Glenn Rawdon, Program Counsel, Telephone: 202.295.1552; Email: grawdon@lsc.gov.

For questions about projects in AL, AR, DC, FL, GA, KY, LA, MD, MS, MO, NC, PR, SC, TN, VI, VA, contact Jane Ribadeneyra, Program Analyst, Telephone: 202.295.1554, Email: ribadeneyraj@lsc.gov.

If you have a general question, please email techgrants@lsc.gov.

Dated: January 12, 2016.
Stefanie K. Davis,
Assistant General Counsel.

[FR Doc. 2016-00941 Filed 1-19-16; 8:45 am]

BILLING CODE 7050-01-P